ENVIRONMENTAL PROTECTION AGENCY

[FRL-8812-7]

Agency Information Collection Activities; Proposed Renewal of Several Currently Approved Collections; Comment Request

AGENCY: Environmental Protection Agency (EPA).

ACTION: Notice.

SUMMARY: In compliance with the Paperwork Reduction Act (PRA) (44 U.S.C. 3501 et seq.), this document announces that EPA is planning to submit requests to renew several currently approved Information Collection Request (ICR) to the Office of Management and Budget (OMB). The ICRs are specifically identified in this document by their corresponding titles, EPA ICR numbers, OMB Control numbers, and related docket identification (ID) numbers. Before submitting these ICRs to OMB for review and approval, EPA is soliciting comments on specific aspects of the information collection activities.

DATES: Comments must be received on or before May 3, 2010.

ADDRESSES: Submit your comments, identified by the docket ID number for the corresponding ICR as identified in this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number for the corresponding ICR as identified in this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Lily Negash, Field and External Affairs Division (7506P), Office of Pesticide Programs, Environmental Protection Agency, 1200 Pennsylvania Ave., NW., Washington, DC 20460-0001; telephone number: (703) 347-8515; fax number: (703) 305-5884; e-mail address: negash.lily@epa.gov.

SUPPLEMENTARY INFORMATION:

I. What Information is EPA Particularly Interested in?

Pursuant to section 3506(c)(2)(A) of PRA, EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What Should I Consider when I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Provide specific examples to illustrate your concerns.

6. Offer alternative ways to improve the collection activity.

7. Make sure to submit your comments by the deadline identified under DATES.

8. To ensure proper receipt by EPA, be sure to identify the docket ID number assigned to this action in the subject line on the first page of your response. You may also provide the name, date, and Federal Register citation.

III. What Do I Need to Know About PRA?

An Agency may not conduct or sponsor, and a person is not required to respond to, a collection of information subject to PRA approval unless it displays a currently valid OMB control number. The OMB control numbers for EPA's regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

Under PRA, burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

IV. Which ICRs Are Being Renewed?

EPA is planning to submit a number of currently approved ICRs to OMB for review and approval under PRA. In addition to specifically identifying the ICRs by title and corresponding ICR, OMB and docket ID numbers, this unit provides a brief summary of the information collection activity and the Agency's estimated burden. The Supporting Statement for each ICR, a copy of which is available in the corresponding docket, provides a more detailed explanation.

A. Docket ID Number EPA-HQ-OPP-2009-0883

Title: Application for Experimental Use Permit (EUP) to Ship and Use a Pesticide for Experimental Purposes Only.

ICR numbers: EPA ICR No. 0276.14, OMB Control No. 2070-0040.

ICR status: The approval for this ICR is scheduled to expire on November 30, 2010.

Affected entities: Entities potentially affected by this ICR include individuals or entities engaged in pesticide, fertilizer, and other agricultural chemical manufacturing (North American Industrial Classification System (NAICS) code 325300).

Abstract: This information collection provides EPA with the data necessary to determine whether to issue an EUP under section 5 of the Federal Insecticide, Fungicide, and Rodenticide Act (FIFRA), as amended. FIFRA requires that before a pesticide product may be distributed or sold in the United States it must be registered by EPA. However, section 5 authorizes EPA to issue EUPs which allow pesticide companies to temporarily ship pesticide products for experimental use for the purpose of gathering data necessary to support the application for registration of a pesticide product. In general, EUPs are issued either for a pesticide not registered with the Agency or for a registered pesticide for a use not registered with the Agency.

Burden statement: The annual public reporting and recordkeeping burden for this collection of information is estimated to average 10.1 hours per response. The ICR, a copy of which is available in the docket, provides a detailed explanation of this estimate, which is only briefly summarized here:

Estimated total number of potential respondents: 21.

Frequency of response: As needed.

Estimated total average number of responses for each respondent: 1.

Estimated total annual burden hours: 212.1 hours.

Estimated total annual costs: $12,917. This ICR does not involve any capital investment or maintenance and operational costs.

Changes in the estimates from the last approval: The renewal of this ICR will result in an overall decrease of 545.4 hours in the total estimated respondent burden identified in the currently approved ICR. This decrease reflects the fewer number of EUPs being submitted to the Agency. This change is an adjustment.

B. Docket ID Number EPA-HQ-OPP-2009-0884

Title: Recordkeeping Requirements for Certified Applicators Using 1080 Collars for Livestock Protection.

ICR numbers: EPA ICR No. 1249.09, OMB Control No. 2070-0074.

ICR status: The approval for this ICR is scheduled to expire on November 30, 2010.

Affected entities: Entities potentially affected by this action are businesses and other institutions participating in pesticide, fertilizer, and other agricultural chemical manufacturing (NAICS code 325300), e.g., pesticide registrants whose products include 1080 collars, government establishments primarily engaged in the regulation of agricultural marketing and commodities (NAICS code 926140), and states implementing a 1080 collar monitoring program (NAICS code 99920).

Abstract: This ICR affects four states (Montana, New Mexico, South Dakota, and Wyoming) that monitor the program plus one additional registrant. Applicators who are certified to apply livestock protection collars are required to keep records of: a) The number of collars attached on livestock; b) pasture(s) where collared livestock were placed; c) the dates of each attachment, inspection, and removal; d) the number and locations of livestock found with ruptured or punctured collars and the apparent cause of the damage; e) the number, dates, and approximate location of all collars lost; and f) the species, locations, and dates of all suspected poisonings of humans, domestic animals or non-target wild animals resulting from collar use.

Applicators maintain records, and the registrants/lead agencies do monitoring studies and submit the reports. These records are monitored by either the: a) State lead agencies, b) EPA regional offices, or c) the registrants. EPA receives annual monitoring reports from registrants or state lead agencies.

Burden statement: The annual public reporting and recordkeeping burden for this collection of information is estimated as follows: Average of 9 hours per response for registrant respondents, 40 hours per response for certified applicator respondents, and 77 hours per response for state agency respondents. The ICR, a copy of which is available in the docket, provides a detailed explanation of this estimate, which is only briefly summarized here:

Estimated total number of potential respondents: 48.

Frequency of response: Annual.

Estimated total average number of responses for each respondent: 1.

Estimated total annual burden hours: 1,944 hours.

Estimated total annual costs: $77,044.

Changes in the estimates from the last approval: The renewal of this ICR will result in an overall decrease of 9 hours in the total estimated respondent burden identified in the currently approved ICR. This change is due to a correction in the calculation of the total annual respondent burden hours.

C. Docket ID Number EPA-HQ-OPP-2009-0887

Title: Compliance Requirement for Child-Resistant Packaging.

ICR numbers: EPA ICR No. 0616.10, OMB Control No. 2070-0052.

ICR status: The approval for this ICR is scheduled to expire on November 30, 2010.

Affected entities: Entities potentially affected by this ICR include large and small entities engaged in manufacturing pesticide chemicals, wholesale merchandising of pesticide products, or pest management activities. The NAICS codes for respondents under this ICR include: Pesticide and other agricultural chemical manufacturing (NAICS code 325320), other chemical and allied products merchant wholesalers (NAICS code 424690), and exterminating and pest control services (NAICS code 561710).

Abstract: This information collection program is designed to provide EPA with assurances that the packaging of pesticide products sold and distributed to the general public in the United States meets standards set forth by the Agency pursuant to FIFRA. Registrants must certify to the Agency that the packaging or device meets these standards. Section 25(c)(3) of FIFRA authorizes EPA to establish standards for packaging of pesticide products and pesticidal devices to protect children and adults from serious illness or injury resulting from accidental ingestion or contact. The law requires that these standards are designed to be consistent with those under the Poison Prevention Packaging Act, administered by the Consumer Product Safety Commission (CPSC). Unless a pesticide product qualifies for an exemption, if the product meets certain criteria regarding toxicity and use, it must be sold and distributed in child-resistant packaging. Compliance regulations are contained in 40 CFR part 157. There are no forms associated with this information collection activity, and submission of confidential information is not required as a part of this information collection.

Burden statement: The annual public reporting and recordkeeping burden for this collection of information is estimated to average 4.04 hours per response. The ICR, a copy of which is available in the docket, provides a detailed explanation of this estimate, which is only briefly summarized here:

Estimated total number of potential respondents: 1,733.

Frequency of response: On occasion.

Estimated total average number of responses for each respondent: One per certification of compliance.

Estimated total annual burden hours: 4,524 hours.

Estimated total annual costs: $240,660.

Changes in the estimates from the last approval: The renewal of this ICR will result in an overall increase of 1,051 hours in the total estimated respondent burden identified in the currently approved ICR. This increase reflects EPA's expectation of an increase in the number of responses driven by an influx of child-resistant packaging (CRP) submissions associated with the full implementation of the registration review program. In addition, the exclusive use period for certain pesticide chemicals is expiring. Registrants with products using these chemicals will now be required to provide their own CRP test data, which will have to be reviewed for human safety/health risk concerns. The total burden hours per response for compliance with the CRP requirements decreased from 4.94 hours to 4.04 hours. The average burden estimate for each response type has not changed. However, the distribution of responses has changed, resulting in a net shift from more burdensome to less burdensome type responses. This change is an adjustment.

D. Docket ID Number EPA-HQ-OPP-2010-0049

Title: Pesticide Product Registration Maintenance Fee.

ICR numbers: EPA ICR No. 1214.08, OMB Control No. 2070-0100.

ICR status: The approval for this ICR is scheduled to expire on November 30, 2010.

Affected entities: Entities potentially affected by this ICR include pesticide companies and state governments. The NAICS codes for respondents under this ICR include: Pesticide and other agricultural chemical manufacturing (NAICS code 325320) and regulation of agricultural marketing and commodities (NAICS code 9641).

Abstract: This information collection provides a practical means of communication between the registrants and EPA's Office of Pesticide Programs (OPP) to collect registration maintenance fees from pesticide registrants as required by law. Respondents complete and submit EPA Form 8570-30 indicating the respondent's liability for the registration maintenance fee.

The first registration maintenance fee filing form was sent to approximately 5,000 pesticide registrant firms in 1989. Since then, the number of respondents has slowly declined from approximately 2,800 firms in 1990 to 2,500 in 1991, 2,350 in 1992, 2,250 in 1993, and 2,200 in 1994. Since 1994, the number of registrants to which these forms are sent has declined steadily to a total of 1,720 in January 2009. Each affected firm is required to complete the filing for and submit their fee payment by January 15 of each year.

Annually, the Agency provides registrants a list of the registered products currently registered with the Agency. Registrants are provided the opportunity to review the list, determine its accuracy, and remit payment of the maintenance fee. The list of products has space identified for marking those products to be supported and those products that are to be canceled. The registrants are also instructed to identify any products on the list which they believe to be transferred to another company, and to add to the list any products which the company believes to be registered that are not on the Agency-provided list. The failure to pay the required fee for a product will result in cancellation of that product's registration.

Burden statement: The annual public reporting and recordkeeping burden for this collection of information is estimated to average 0.96 hours per response. The ICR, a copy of which is available in the docket, provides a detailed explanation of this estimate, which is only briefly summarized here:

Estimated total number of potential respondents: 1,720.

Frequency of response: Annual.

Estimated total average number of responses for each respondent: 1.

Estimated total annual burden hours: 1,645 hours.

Estimated total annual costs: $129,088.

Changes in the estimates from the last approval: The renewal of this ICR will result in an overall increase of $3,288 in the total estimated respondent cost identified in the currently approved ICR. This change of increase in cost is merely because of the labor cost increase since the last renewal.

V. What is the Next Step in the Process for these ICRs?

EPA will consider the comments received and amend the individual ICRs as appropriate. The final ICR packages will then be submitted to OMB for review and approval pursuant to 5 CFR 1320.12. EPA will issue another Federal Register notice pursuant to 5 CFR 1320.5(a)(1)(iv) to announce the submission of these ICRs to OMB and the opportunity for the public to submit additional comments for OMB consideration. If you have any questions about any of these ICRs or the approval process in general, please contact the person listed under FOR FURTHER INFORMATION CONTACT.

List of Subjects

Environmental protection, Reporting and recordkeeping requirements.

Dated: February 23, 2010.
Stephen A. Owens,
Assistant Administrator, Office of Prevention, Pesticides and Toxic Substances.

[FR Doc. 2010-4321 Filed 3-2-10; 8:45 am]

BILLING CODE 6560-50-S